DEPARTMENT OF THE INTERIOR

Bureau of Land Management

[LLNVS01000.L58530000.EU0000.241A; N-97771; 12-08807; MO# 4500153661; TAS:15X5232]

Notice of Realty Action: Classification for Lease and/or Conveyance for Recreation and Public Purposes of Public Lands (N-97771) for a Park in the Southwest Portion of the Las Vegas Valley, Clark County, Nevada

AGENCY: Bureau of Land Management, Department of the Interior.

ACTION: Notice of Realty Action.

SUMMARY: The Bureau of Land Management (BLM), Las Vegas Field Office, has examined and found suitable for classification for lease and subsequent conveyance under the provisions of the Recreation and Public Purposes (R&PP) Act, as amended, approximately 10 acres of public land in the Las Vegas Valley, Clark County, Nevada. Clark County Real Property Management proposes to use the land for a 10-acre public park that will help meet expanding recreational needs in the southwestern part of the Las Vegas Valley.

DATES: Interested parties may submit written comments regarding the proposed classification for lease and conveyance of the land until December 2, 2021.

ADDRESSES: Mail written comments to the BLM Las Vegas Field Office, Assistant Field Manager, 4701 North Torrey Pines Drive, Las Vegas, Nevada 89130, fax to (775) 515-5010.

FOR FURTHER INFORMATION CONTACT: Jamie Moeini at the above address, by telephone at (702) 515-5129, or by email at jmoeini@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The parcel is located south of Patrick Lane and west of Tee Pee Lane in southwest Las Vegas and is legally described as:

Mount Diablo Meridian, Nevada

T. 21 S., R. 60 E.,

Sec. 31, NE1/4NW1/4SE1/4.

The area described contains 10 acres in Clark County, Nevada.

In accordance with the R&PP Act, Clark County Real Property Management has filed an application to develop the above-described land as a public park consisting of a splash pad, four multiage playground areas, premanufactured restrooms with water bottle fillers, four 16 feet by 16 feet shade structures, four 16 feet by 24 feet shade structures, four turf fenced dog runs, a sport/exercise equipment area, a trash enclosure, large turf areas, trees, planters, typical desert landscaping, paved walking trails, concrete sidewalks, street and park lighting, a paved 53-space parking lot, and utilities for direct support of the proposed park. Additional detailed information pertaining to this publication, plan of development, and site plan is available in case file N-97771, which is available for review at the BLM Las Vegas Field Office at the above address.

Clark County Real Property Management is a political subdivision of the State of Nevada, and is therefore a qualified applicant under the R&PP Act.

Subject to limitations prescribed by law and regulations, prior to patent issuance the holder of any right-of-way grant within the lease area may be given the opportunity to amend the right-of-way grant for conversion to a new term, including perpetuity, if applicable.

The land identified is not needed for any Federal purpose. The lease and/or conveyance is consistent with the BLM Las Vegas Resource Management Plan dated October 5, 1998, and would be in the public interest. Clark County Real Property Management has not applied for more than the 640-acre limitation for public purpose uses in a year and has submitted a statement that their application is for a definite project as required in regulations at 43 CFR 2741.4(b).

The lease and conveyance, when issued, will be subject to the following terms, conditions, and reservations:

1. A right-of-way thereon for ditches or canals constructed by the authority of the United States pursuant to the Act of August 30, 1890 (43 U.S.C. 945);

2. Provisions of the R&PP Act and to all applicable regulations of the Secretary of the Interior;

3. All mineral deposits in the land so patented, and the right to prospect for, mine, and remove such deposits from the same under applicable law and regulations as established by the Secretary of the Interior are reserved to the United States, together with all necessary ingress and egress rights;

4. Lease or conveyance of the parcel is subject to valid existing rights;

5. An appropriate indemnification clause protecting the United States from claims arising out of the lessee's/patentee's use, occupancy, or operations on the leased/patented lands; and

6. Any other reservations that the authorized officer determines appropriate to ensure public access and proper management of Federal lands and interests therein.

Upon publication of this notice in the Federal Register, the land described above will be segregated from all other forms of appropriation under the public land laws, including the general mining laws, except for lease and conveyance under the R&PP Act, leasing under the mineral leasing laws, and disposals under the mineral material disposal laws.

Interested parties may submit written comments on the suitability for classification of the land as a public park project in Clark County. Comments on the classification are restricted to whether the land is physically suited for the proposal, whether the use will maximize the future use or uses of the land, whether the use is consistent with local planning and zoning, or if the use is consistent with State and Federal programs. Interested parties may also submit written comments regarding the specific use proposed in the application, plan of development, site plan, and whether the BLM followed proper administrative procedures in reaching the decision to lease and convey under the R&PP Act.

Before including your address, phone number, email, address, or other personal identifying information in your comment, you should be aware that your entire comment—including your personal identifying information—may be made publicly available at any time. While you can ask us in your comment to withhold your personal identifying information from public review, we cannot guarantee that we will be able to do so. Only written comments submitted to the Assistant Field Manager, BLM Las Vegas Field Office, will be considered properly filed. Any adverse comments will be considered protests and will be reviewed by the BLM Nevada State Director, who may sustain, vacate, or modify this realty action.

In the absence of any adverse comments, the decision will become effective on December 17, 2021. The lands will not be available for lease and conveyance until after the decision becomes effective.

(Authority: 43 CFR 2741.5)

Shonna Dooman,
Field Manager, Las Vegas Field Office.

[FR Doc. 2021-22653 Filed 10-15-21; 8:45 am]

BILLING CODE 4310-HC-P